DEPARTMENT OF COMMERCE

National Oceanic and Atmospheric Administration

RIN 0648-XC734

National Marine Fisheries Service (NMFS), National Oceanic and Atmospheric Administration; Southwest Fisheries Science Center; Online Webinar

AGENCY: National Marine Fisheries Service (NMFS), National Oceanic and Atmospheric Administration (NOAA), Commerce.

ACTION: Notice of online webinar.

SUMMARY: The Southwest Fisheries Science Center (SWFSC) will hold an online Pre-Assessment Workshop webinar to provide an overview of the data sources, data trends and population models that will be used in the upcoming Pacific coast groundfish stock assessments for Pacific sanddab and cowcod (rockfish). The online SWFSC Pre-Assessment Workshop webinar is open to the public, although space for online access is limited to the first 20 participants.

DATES: The SWFSC Pre-Assessment Workshop webinar will commence at 1 p.m. PST, Monday, July 15, 2013, and continue until 4 p.m. or as necessary to complete business for the day.

ADDRESSES: See SUPPLEMENTARY INFORMATION for specific addresses and all other necessary information pertaining to the webinar.

Science Center address: Fisheries Ecology Division, Southwest Fisheries Science Center, 110 Shaffer Road, Santa Cruz, CA.

FOR FURTHER INFORMATION CONTACT: Dr. John Field, NMFS Southwest Fisheries Science Center; telephone: (831) 420-3907, email: John.Field@noaa.gov.

SUPPLEMENTARY INFORMATION: To attend the SWFSC Pre-Assessment webinar, please reserve your seat by emailing Dr. John Field (John.Field@noaa.gov). Once registered, participants will receive a confirmation email message that contains detailed information about viewing the event and joining the audio conference (toll free number). Participants can join the webinar as audio-only, but the total number of participants for both the webinar and the audio portions is limited. Participants must register at least 5 days prior to the webinar meeting.

System requirements for attending the online webinar are as follows: PC-based attendees: Windows® 2000, XP SP#, 2003 Server, Vista 32-bit/64-bit, Windows® 7 32-bit/64-bit, 2008 Server 64-bit; Intel Core2 Duo CPU 2.XX GHz or AMD processor. (2 GB of RAM recommended), JavaScript and Cookies enabled, Active X enabled and unblocked for Microsoft Internet Explorer (recommended) and Java 6.0 or above, Microsoft® Internet Explorer 6, 7 or 8 (8 is recommended), Mozilla Firefox 3.x or 4.0b, Chrome 5, 6, or 7; Mac®-based attendees: Mac OS® X 10.5 or 10.6; Other platforms supported: Linux, Solaris Solaris 10, HP-UX 11.11 and AIX 5.3; and Mobile attendees: iPhone® or iPad® (iOS 3+), Android TM (v 2.1+) and Cius devices. If you experience technical difficulties connecting to the webinar meeting, it may be helpful to try using a different browser if possible.

Public listening stations for the SWFSC Pre-Assessment Workshop webinar will also be available at the following locations:

1. Conference Room (188), Fisheries Ecology Division, Southwest Fisheries Science Center, 110 Shaffer Road, Santa Cruz, CA 95060;

2. Auditorium, National Marine Fisheries Service, Northwest Fisheries Science Center, 2725 Montlake Blvd. East, Seattle, WA 98112, telephone: (206) 860-3200;

3. Conference Room 101, National Marine Fisheries Service, Northwest Fisheries Science Center, 2032 SE OSU Drive, Newport, OR 97365, telephone: (541) 867-0500;

4. Large Conference Room, Pacific Fishery Management Council, 7700 NE Ambassador Place, Suite 101, Portland, OR 97220-1384, telephone: (503) 820-2280; and

5. Pacific meeting room, Southwest Fisheries Science Center, 8901 La Jolla Shores Drive, La Jolla, CA, 92037, telephone: (858) 334-2847.

To attend the webinar at the Southwest Fisheries Science Center listening stations in La Jolla, CA, Santa Cruz, CA, Seattle, WA or Newport, OR, members of the general public who are not National Marine Fisheries Service employees need to provide photo identification. Foreign nationals, where a foreign national is an individual who is not a citizen of the United States, not a legal permanent resident (meaning not a “permanent resident alien” or “Green Card” holder), and not a “protected individual” under 8 U.S.C. 1324b(a)(3), intending to attend the webinar at any of the Southwest or Northwest Fisheries Science Centers must notify Ms. Stacey Miller, (541) 867-0562, at the Northwest Fisheries Science Center at least 2 weeks prior to the webinar.

Public comments during the webinar will be received from attendees at one of the public listening stations as well as by participants who have pre-registered and are listening from remote locations.

The specific objectives of the SWFSC Pre-Assessment Workshop webinar are to: (1) Present and describe data that may be included in the stock assessment modeling for Pacific sanddab and cowcod; (2) discuss the interpretation of data given historical and current fishing practices and changes in fishing regulations; (3) discuss approaches for improving stock assessment modeling efforts; and (4) identify data gaps and future research possibilities. No management actions will be decided in this workshop.

All visitors to the National Marine Fisheries Service science centers should bring photo identification to the meeting location. Visitors who are foreign nationals (defined as a person who is not a citizen or national of the United States) will require additional security clearance to access the NOAA facilities. Foreign national visitors should contact Ms. Stacey Miller at (541) 867-0562 at least 2 weeks prior to the meeting date to initiate the security clearance process.

Although non-emergency issues not identified in the webinar agenda may come before the webinar participants for discussion, those issues may not be the subject of formal action during this webinar. Formal action at the workshop will be restricted to those issues specifically listed in this notice and any issues arising after publication of this notice that require emergency action under Section 305(c) of the Magnuson-Stevens Fishery Conservation and Management Act, provided the public has been notified of the webinar participants' intent to take final action to address the emergency.

Special Accommodations

This meeting is physically accessible to people with disabilities. Requests for auxiliary aids should be directed to Ms. Stacey Miller at (541) 867-0562 at least 5 days prior to the webinar date.

Dated: June 20, 2013.
Tracey L. Thompson,
Acting Deputy Director, Office of Sustainable Fisheries, National Marine Fisheries Service.

[FR Doc. 2013-15109 Filed 6-24-13; 8:45 am]

BILLING CODE 3510-22-P